DEPARTMENT OF HEALTH AND HUMAN SERVICES

National Toxicology Program (NTP); Office of Liaison, Policy and Review; Meeting of the Scientific Advisory Committee on Alternative Toxicological Methods (SACATM): Amended Notice

AGENCY: National Institute of Environmental Health Sciences (NIEHS), National Institutes of Health (NIH).

ACTION: Availability of public video casting of meeting.

SUMMARY: This notice announces the availability of public video casting of the SACATM meeting on June 25-26, 2009. The meeting will be held at the Hilton Arlington Hotel, 950 North Stafford Street, Arlington, VA 22203 and video cast through a link on the SACATM Web site (http://ntp.niehs.nih.gov/go/7441). Information regarding the meeting was announced in the Federal Register (74 FR 19562) published on April 29, 2009 and available on the NTP Web site (http://ntp.niehs.nih.gov/go/32822).

DATES: The SACATM meeting will be held on June 25 and 26, 2009. The meeting is scheduled from 8:30 a.m. to approximately 5:30 p.m. on June 25 and 8:30 a.m. until adjournment on June 26, 2009

ADDRESSES: The SACATM meeting will be held at the Hilton Arlington Hotel, 950 North Stafford Street, Arlington, VA 22203 [hotel: (703) 528-6000)].

SUPPLEMENTARY INFORMATION:

Archived Video of the Meeting

Following the meeting, the archived video of the meeting will be available on the SACATM meeting Web page (http://ntp.niehs.nih.gov/go/7441).

Dated: June 12, 2009.
John R. Bucher,
Associate Director, National Toxicology Program.

[FR Doc. E9-14502 Filed 6-18-09; 8:45 am]

BILLING CODE 4140-01-P